CONSUMER PRODUCT SAFETY COMMISSION

Collection of Information; Proposed Extension of Approval; Comment Request—Follow-Up Activities for Product-Related Injuries

AGENCY: Consumer Product Safety Commission.

ACTION: Notice.

SUMMARY: As required by the Paperwork Reduction Act of 1995 (PRA)(44 U.S.C. Chapter 35), the Consumer Product Safety Commission requests comments on a proposed extension of approval of a collection of information from persons who have been involved in or have witnessed incidents associated with consumer products. The Commission will consider all comments received in response to this notice before requesting an extension of approval of this collection of information from the Office of Management and Budget.

DATES: The Office of the Secretary must receive comments not later than February 1, 2010.

ADDRESSES: Written comments should be captioned “Product-Related Injuries” and e-mailed to the Office of the Secretary at cpsc-os@cpsc.gov or mailed to Office of the Secretary, Consumer Product Safety Commission, 4330 East West Highway, Bethesda, MD 20814. Written comments may also be sent to the Office of the Secretary by facsimile at (301) 504-0127.

FOR FURTHER INFORMATION CONTACT: Copies of this request for extension of the information collection requirements and supporting documentation are available from Linda Glatz, Division of Policy and Planning, Office of Information Technology and Technology Services, Consumer Product Safety Commission, 4330 East West Highway, Bethesda, MD 20814; telephone: (301) 504-7671 or by e-mail to lglatz@cpsc.gov.

SUPPLEMENTARY INFORMATION:

A. Background

Section 5(a) of the Consumer Product Safety Act, 15 U.S.C. 2054(a), requires the Commission to collect information related to the causes and prevention of death, injury, and illness associated with consumer products. That section also requires the Commission to conduct continuing studies and investigations of deaths, injuries, diseases, other health impairments, and economic losses resulting from accidents involving consumer products. The Commission obtains information about product-related deaths, injuries, and illnesses from a variety of sources, including newspapers, death certificates, consumer complaints, and medical facilities. In addition, the Commission receives information through its Internet Web site through forms reporting on product-related injuries or incidents.

From these sources, the Commission staff selects cases of interest for further investigation by face-to-face or telephone interviews with persons who witnessed or were injured in incidents involving consumer products. On-site investigations are usually made in cases where the Commission staff needs photographs of the incident site, the product involved, or detailed information about the incident. This information can come from face-to-face interviews with persons who were injured or who witnessed the incident, as well as contact with state and local officials, including police, coroners and fire investigators, and others with knowledge of the incident.

The Commission uses this information to support development and improvement of voluntary standards, rulemaking proceedings, information and education campaigns, and administrative and judicial proceedings for enforcement of the statutes, standards, and regulations administered by the Commission. These safety efforts are vitally important to help make consumer products safer and to remove unsafe products from the channels of distribution and from consumers' homes.

The Office of Management and Budget (OMB) approved the collection of information concerning product-related injuries under control number 3041-0029. OMB's most recent extension of approval will expire on January 31, 2009. The Commission now proposes to request an extension of approval of this collection of information.

The Commission also operates a surveillance system known as the National Electronic Injury Surveillance System (NEISS) that provides timely data on consumer product-related injuries treated in a statistically valid sample from approximately 100 hospital emergency departments, as well as childhood poisonings in the U.S. The NEISS system has been in operation since 1971. The Commission previously has not included NEISS reports under the product-related injuries collection of information because the information obtained from hospital databases are obtained directly through CPSC employees and/or CPSC contractors, and does not involve the solicitation of any information from any individuals. The CPSC employee or contractor collects emergency department records for review which are then coded. The PRA exempts facts or opinions obtained through direct observation by an employee or agent of the sponsoring agency. 5 CFR 1320.3(h)(3). However, because in addition to the reports themselves, further information may need to be obtained which may result in telephone and/or face-to-face communications with individuals, the proposed collection of information under the follow-up activities for product-related injuries now includes the burden hours per year for the NEISS system in addition to the other follow-up activities conducted by the Commission.

B. Estimated Burden

The NEISS system collects information on consumer-product related injuries from approximately 100 hospitals in the United States. Respondents to NEISS include hospitals that directly report information to NEISS, and hospitals that allow access to a CPSC contractor who collects the data. In FY2008, there were 157 NEISS respondents (total hospitals and CPSC contractors). These NEISS respondents reviewed an estimated 3.4 million emergency department records and reported 371,507 consumer product-related injuries and 5,030 childhood poisoning-related injuries. Based on FY2008 data, the total burden hours to respondents are estimated to be 41,497 hours. The average burden hour per hospital is 415 hours. However, the total burden hour on each hospital varies by the size (small or large) and location (rural or metropolitan) of the hospital. The smallest hospital reported less than 200 cases with a burden of approximately 100 hours, while the largest hospital reported over 16,000 cases with a burden of about 1,300 hours.

The total costs to NEISS respondents based on FY2008 data are estimated to be $1.5 million per year. NEISS respondents enter into contracts with CPSC and are compensated for these costs. The average cost per respondent is estimated to be about $15,000. The average cost per burden hour is estimated to be $36 per hour (including wages and overhead) (Bureau of Labor Statistics, June 2009, Total Compensation Civilian workers, Hospitals). However, the actual cost to each respondent varies due to the type of respondent (hospital versus CPSC contractor), size of hospital, and regional differences in wages and overhead. Therefore, the actual annual cost for any given respondent may vary between $2,600 at a small rural hospital and $75,000 at a large metropolitan hospital which are compensated by the CPSC.

The Commission staff also obtains information about incidents involving consumer products from approximately 17,415 persons annually. The staff conducts face-to-face interviews at incident sites with approximately 915 persons each year. On average, an on-site interview takes approximately 5 hours. The staff will also conduct approximately 3,500 in-depth investigations by telephone. Each in-depth telephone investigation requires approximately 20 minutes. Additionally, the Commission's hotline staff interviews approximately 4,000 persons each year about incidents involving selected consumer products. These interviews take an average of 10 minutes each. Each year, the Commission also receives information from about 9,000 persons who complete forms requesting information about product-related incidents or injuries. These forms appear on the Commission's Internet Web site, http:www.cpsc.gov, and are printed in the Consumer Product Safety Review and other Commission publications. The staff estimates that completion of a form takes about 12 minutes.

The Commission staff estimates that this collection of information imposes a total annual burden of 7,724 hours on all respondents: 4,118 hours for face-to-face interviews; 1,155 hours for in-depth telephone interviews; 661 hours for responses to Hotline interviews; and 1,790 hours for completion of written forms.

The Commission staff estimates the value of the time of respondents to this collection of information at $29.31 per hour (Bureau of Labor Statistics, June 2009, Total Compensation, All workers). At this valuation, the estimated annual cost to the public of this information collection will be approximately $226,390.

The annual cost to the Federal government for this collection of information is estimated to be approximately $6.4 million per year. This estimate includes $1.5 million in compensation to NEISS respondents. The estimate also includes approximately $4.9 million for 354 professional staff months to oversee NEISS operation, prepare questionnaires, interviewer guidelines, and other instruments and instructions used to collect the information, conduct face-to-face and telephone interviews; and evaluate responses obtained from interviews and completed forms. Each staff month is estimated to cost the Commission approximately $13,859. This is based on an average wage rate of $55.97 (the equivalent of a GS-14 Step 5 employee) with an addition 30 percent added for benefits (Bureau of Labor Statistics, June 2009, percentage total benefits for all civilian management, professional, and related employees).

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: November 24, 2009.
Todd A. Stevenson,
Secretary, Consumer Product Safety Commission.

[FR Doc. E9-28661 Filed 11-30-09; 8:45 am]

BILLING CODE 6355-01-P